DEPARTMENT OF LABOR

Employment and Training Administration

[TA-W-41,459]

Dave Goldberg, Inc., Long Island City, NY; Notice of Termination of Certification

Pursuant to Section 223 of the Trade Act of 1974, on May 22, 2002, the Department of Labor issued a Certification of Eligibility To Apply for Worker Adjustment Assistance applicable to workers of the subject firm. The notice was published in the Federal Register on June 11, 2002 (67 FR 40004).

The State agency requested that the Department review the certification for workers of the subject firm engaged in the production of swimwear. New information shows that Dave Goldberg, Inc. is the parent company of Tama Sportswear located in Long Island City, New York. The Tama Sportswear certification, TA-W-40,569, was amended to include workers whose wages are reported to the Unemployment Insurance tax account for Dave Goldberg, Inc.

Consequently, continuance of this certification would serve no purpose and the certification is terminated.

Signed in Washington, DC this 15th day of July 2002.
Linda G. Poole,
Certifying Officer, Division of Trade Adjustment Assistance.

[FR Doc. 02-18635 Filed 7-23-02; 8:45 am]

BILLING CODE 4510-30-P